DEPARTMENT OF THE TREASURY

Internal Revenue Service

[Notice 2022-61]

Prevailing Wage and Apprenticeship Initial Guidance Under Section 45(b)(6)(B)(ii) and Other Substantially Similar Provisions; Correction

AGENCY: Internal Revenue Service (IRS), Treasury.

ACTION: Notice; correction.

SUMMARY: The Internal Revenue Service (IRS) is correcting a notice published in the November 30, 2022, issue of the Federal Register. These corrections apply to the notice heading and the date that is 60 days after the Secretary of the Treasury or her delegate (Secretary) publishes the guidance described in the notice.

FOR FURTHER INFORMATION CONTACT: Alexander Scott, CC:PSI:6, Internal Revenue Service, 1111 Constitution Avenue NW, Washington, DC 20224, at (202) 317-6853 (not a toll-free call).

SUPPLEMENTARY INFORMATION:

Corrections

In the Federal Register of November 30, 2022 (87 FR 73580) in FR Doc. 2022-26108, make the following corrections:

1. On page 73580, in the “Heading”, replace “[ 2022-61]” with “[Notice 2022-61]”.

2. On page 73580, in the SUMMARY caption, replace “January 30, 2023” with “January 29, 2023” in penultimate sentence.

3. On page 73580, in the DATES caption, replace “January 30, 2023” with “January 29, 2023”.

Oluwafunmilayo A. Taylor,
Branch Chief, Legal Processing Division, Associate Chief Counsel, (Procedure and Administration).

[FR Doc. 2022-26549 Filed 12-6-22; 8:45 am]

BILLING CODE 4830-01-P